DEPARTMENT OF ENERGY

Federal Energy Regulatory Commission

[Docket No. EL10-8-000]

Town of Edinburg, Indiana, Complainant, v. Indiana Michigan Power Agency, Respondent; Notice of Complaint

November 2, 2009.

Take notice that on October 29, 2009, pursuant to sections 206 and 211A of the Federal Power Act, 16 U.S.C. 824e, and 824j-i, and Rule 206 of the Commission's regulations, 18 CFR 385.206, the Town of Edinburgh, (Complainant), filed a formal complaint against the Indiana Municipal Power Agency (Respondent) alleging that the Respondent is in violation of section 211A of the Federal Power Act for failure to charge Complainant a comparable transmission rate and resulting discriminatory overcharges against Complainant of at least $1.98 million for the period 2003 through 2009.

The Complainant certifies that copies of the complaint were served on the contacts for the Respondent as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on November 18, 2009.

Kimberly D. Bose,
Secretary.

[FR Doc. E9-26887 Filed 11-6-09; 8:45 am]

BILLING CODE 6717-01-P